DEPARTMENT OF THE INTERIOR

National Park Service

[NPS-PWR-PWRO-13759; PX.PD00421E.00.1]

Draft General Management Plan/Wilderness Study/Environmental Impact Statement, Channel Islands National Park, Ventura and Santa Barbara Counties, California

AGENCY: National Park Service, Interior.

ACTION: Notice of availability.

SUMMARY: The National Park Service announces the availability of a Draft General Management Plan (GMP)/Wilderness Study/Environmental Impact Statement (EIS) for Channel Islands National Park. The document identifies and analyzes three alternatives. Alternative 1 (no action alternative) reflects current management direction and serves as a baseline for comparison with the other alternatives. Existing facilities, resource programs, and visitor opportunities would continue as they are. Currently the park is not designated as wilderness. Alternative 2 emphasizes ecosystem preservation, restoration, and preservation of large expanses in relatively pristine resource conditions. Resource stewardship including ecosystem preservation and restoration, and preservation of natural landscapes, cultural landscapes, archeological resources, and historic structures would continue to be emphasized. Increased recreational opportunities would be provided for visitors to enjoy and appreciate the park. Alternative 3 (agency-preferred) emphasizes resource stewardship, while also placing more attention on expanding education and recreational opportunities and accommodations to provide diverse visitor experiences on the islands. Both Alternative 2 and Alternative 3 propose 66,675 acres of the park be recommended to Congress for designation as wilderness, primarily on Santa Rosa and Santa Cruz islands.

DATES: All comments on the Draft EIS must be postmarked or transmitted not later than 60 days after the date the Environmental Protection Agency publishes notice of filing and release of the EIS in the Federal Register. The National Park Service will hold several public meetings during the comment period—the date, time, and location of the meetings will be announced on http://parkplanning.nps.gov/chis, in local and regional press media, and will also be available by contacting Channel Islands National Park.

ADDRESSES: Information will be available for public review and comment online at http://parkplanning.nps.gov.chis, and in the office of the Superintendent, Channel Islands National Park, 1901 Spinnaker Dr., Ventura, CA 93001, (805) 658-5702. You may submit comments by one of two methods: Mail or hand-deliver comments to Channel Islands National Park, Attn: DEIS—GMP/Wilderness Study (address above), or you may submit comments via the Web site noted above. Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Mr. Russell Galipeau, Superintendent, Channel Islands National Park, 1901 Spinnaker Dr., Ventura, CA 93001; russell_galipeau@nps.gov; (805) 658-5702.

Mr. Greg Jarvis, Project Manager, NPS Denver Service Center, 12795 W. Alameda Parkway, Lakewood, CO 80228, (303) 969-2263.

SUPPLEMENTARY INFORMATION: The park includes five remote islands spanning 2,228 square miles of land and sea. Updating the park's 1995 general management plan (GMP) is needed to provide clear direction for resource preservation and visitor experience over the next 20 to 40 years. The updated GMP will provide a framework for proactive decision making, which will allow managers to effectively address future opportunities and problems, such as resource, operational, administrative, and visitor use issues facing the park. The updated GMP will serve as the basis for future detailed management documents, such as five-year strategic plans and implementation plans. In addition, the wilderness study component will determine if eligible portions of the park should be proposed for wilderness designation.

The following issues are the key topics addressed by the GMP/Wilderness Study:

• Access to the islands. Access across the sea to the islands is expensive and difficult. The islands are only accessible by park concessioner boats and planes or private boats. The issue this plan needs to answer is whether more opportunities for public access should be provided to the islands.

• Access on Santa Rosa Island. This issue addresses the question of the level and type of access that should be provided to visitors. Santa Rosa is a relatively large island. When most visitors are dropped off at Bechers Bay they are now faced with walking long distances to see the 53,000-acre island.

• Type and level of recreation development that is appropriate on the islands. This issue addresses the question of the appropriate balance of developments that should be provided for visitors (i.e., general types and intensities of development needed to provide for public enjoyment of the park, while minimizing impacts on park resources). The updated GMP will also address $14.5 million of deferred maintenance needs and will consider additional opportunities to provide commercial services to improve the visitor experience on the islands.

• Providing sustainable park operations. This issue focuses on whether existing administrative and operational facilities are functioning effectively and efficiently, and meeting the needs of both park staff and visitors. Managing aging, temporary employee housing on the islands is one key issue to resolve.

• Designation of wilderness. To fulfill the requirements of the park's enabling legislation and the Wilderness Act of 1964, the NPS must determine whether any lands in the park should be proposed for inclusion in the National Wilderness Preservation System.

Decision Process: Following due consideration of all comments received, a Final EIS will be prepared. As a delegated EIS, the official responsible for approval of the final GMP is the Regional Director, Pacific West Region. Subsequently the official responsible for implementing the approved GMP and for monitoring results is the Superintendent, Channel Islands National Park. In addition, the results of the wilderness study will be forwarded to the NPS Director for consideration, who then may forward to Secretary of the Interior, who may concur or revise the wilderness proposal, and in turn may forward the recommendation to Congress.

Dated: September 13, 2013.
Patricia L. Neubacher,
Acting Regional Director, Pacific West Region.

[FR Doc. 2013-27283 Filed 11-13-13; 8:45 am]

BILLING CODE 4312-FF-P